ENVIRONMENTAL PROTECTION AGENCY

[Docket ID Numbers OECA-2004-0004 to 0016, OECA-2004-0018 to 0022, FRL-7667-4]

Agency Information Collection Activities: Request for Comments on Eighteen Proposed Information Collection Requests (ICRs)

AGENCY: Environmental Protection Agency (EPA).

ACTION: Notice.

SUMMARY: In compliance with the Paperwork Reduction Act (44 U.S.C. 3501 et seq.), this document announces that EPA is planning to submit the following eighteen existing, approved, continuing Information Collection Requests (ICR) to the Office of Management and Budget (OMB) for the purpose of renewing the ICRs. Before submitting the ICRs to OMB for review and approval, EPA is soliciting comments on specific aspects of the information collections as described at the beginning of SUPPLEMENTARY INFORMATION.

DATES: Comments must be submitted on or before July 26, 2004.

ADDRESSES: Comments may be submitted electronically, by mail, or through hand delivery/courier service. Follow the detailed instructions as provided under SUPPLEMENTARY INFORMATION, Section I.B.

FOR FURTHER INFORMATION CONTACT: The contact individuals for each ICR are listed under SUPPLEMENTARY INFORMATION, section II. C.

SUPPLEMENTARY INFORMATION:

I. General Information

A. How Can I Get Copies of the ICR Supporting Statement and Other Related Information?

1. Docket. EPA has established official public dockets for these ICRs as follows:

(1) NSPS for Incinerators (40 CFR part 50, subpart E), Docket ID Number OECA-2004-0009.

(2) NSPS for Small Industrial-Commercial-Industrial Steam Generating Units (40 CFR part 60, subpart Dc), Docket ID Number OECA-2004-0010.

(3) NSPS for Rubber Tire Manufacturing (40 CFR part 60, subpart BBB), Docket ID Number OECA-2004-0014.

(4) NSPS for the Graphic Arts Industry (40 CFR part 60, subpart QQ), Docket ID Number OECA-2004-0012.

(5) NSPS for Onshore Natural Gas Processing Plants (40 CFR part 60, subparts KKK and LLL), Docket ID Number OECA-2004-0005.

(6) NSPS for Phosphate Rock Plants (40 CFR part 60, subpart NN); Docket ID Number OECA-2004-0021.

(7) NESHAP for Pesticide Active Ingredient Production (40 CFR part 63, subpart MMM), Docket ID Number OECA-2004-0007.

(8) NSPS for Hospital/Medical/Infectious Waste Incinerators (40 CFR part 60, subpart Ec), Docket ID Number OECA-2004-0015.

(9) NESHAP for Vinyl Chloride (40 CFR part 61, subpart F), Docket ID Number OECA-2004-0011.

(10) NSPS for Portland Cement Plants (40 CFR Part 60, Subpart F), Docket ID Number OECA-2004-0022.

(11) NSPS for Asphalt Processing and Roofing Manufacture (40 CFR Part 60, Subpart UU), Docket ID Number OECA-2004-0013.

(12) NESHAP for Pulp and Paper Production (40 CFR part 63, subpart S), Docket ID Number OECA-2004-0019.

(13) NESHAP for Beryllium Rocket Motor Fuel Firing (40 CFR part 61, subpart D), Docket ID Number OECA-2004-0006.

(14) NESHAP for Petroleum Refineries (40 CFR part 63, subpart CC), Docket ID Number OECA-2004-0016.

(15) NESHAP for Chemical Recovery Combustion Sources at Kraft, Soda, Sulfite, and Stand-Alone Semichemical Pulp Mills (40 CFR part 63, subpart MM), Docket ID Number OECA-2004-0020.

(16) NESHAP for Ferroalloys Production: Ferromaganese and Silconmaganese (40 CFR part 63, subpart XXX), Docket ID Number OECA-2004-0004.

(17) NSPS for Polymeric Coating of Supporting Substrates Facilities (40 CFR part 60, subpart VVV), Docket ID Number OECA-2004-0018.

(18) NESHAP for Solvent Extraction for Vegetable Oil Production (40 CFR part 63, subpart GGGG), Docket ID Number OECA-2004-0008.

The official public docket for each ICR consists of the documents specifically referenced in the ICR, any public comments received, and other information related to each ICR. Although a part of the official docket, the public docket does not include Confidential Business Information (CBI) or other information whose disclosure is restricted by statute. The official public docket for each ICR is the collection of materials that is available for public viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center Docket is (202) 566-1514.

2. Electronic Access. You may access this document electronically through the EPA Internet under the “Federal Register” listings at http://www.epa.gov/fedrgstr. You may use EPA Dockets at http://www.epa.gov/edocket to submit or view public comments, access the index listing of the contents of the official public docket, and to access those documents in the public docket that are available electronically. After entering the system, select “search,” then key in the docket identification number.

Certain types of information will not be placed in the EPA Dockets. Information claimed as CBI, and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in section I.A.1. EPA intends to work towards providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the Docket will be scanned and placed in EPA's electronic public docket. Where practical, physical objects will be photographed, and the photograph will be placed in EPA's electronic public docket along with a brief description written by the docket staff.

For additional information about EPA's electronic public docket, visit EPA Dockets online or see 67 FR 38102, May 31, 2002.

B. How and to Whom Do I Submit Comments?

You may submit comments electronically, by mail, or through hand delivery/courier service. To ensure proper receipt by EPA, identify the appropriate docket identification number in the subject line on the first page of your comment. Please ensure that your comments are submitted within the specified comment period. Comments received after the close of the comment period will be marked “late.” EPA is not required to consider late comments in formulating a final decision. If you wish to submit CBI or information that is otherwise protected by statute, please follow the instructions in section I.C. Do not use EPA Dockets or e-mail to submit CBI or information protected by statute.

1. Electronically. If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket, and follow the online instructions for submitting comments. To access EPA's electronic public docket from the EPA Internet Home Page, select “Information Sources,” “Dockets,” and “EPA Dockets.” After entering the system, select “search,” and then key in Docket ID Number. The system is an “anonymous access” system, which means EPA will not know your identity, e-mail address, or other contact information unless you provide it in the body of your comment.

ii. E-mail. Comments may be sent by electronic mail (e-mail) to docket.oeca@epa.gov. Provide the Docket ID Number when submitting your comments. In contrast to EPA's electronic public docket, EPA's e-mail system is not an “anonymous access” system. If you send an e-mail comment directly to the Docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in section I.A.1. These electronic submissions will be accepted in WordPerfect or ASCII file format. Avoid the use of special characters and any form of encryption.

2. By Mail. Send your comments to the EPA Docket Center using the address provided in section I.A.1.; Attention: Docket ID Number (provide number).

3. By Hand Delivery or Courier Service. Deliver your comments to the address provided in section I.A.1.; Attention: Docket ID Number (provide number). Such deliveries are only accepted during the Docket's normal hours of operation as identified in section I.A.1.

C. How Should I Submit CBI to the Agency?

Do not submit information that you consider to be CBI electronically through EPA's electronic public docket or by e-mail. Send or deliver information identified as CBI only to the contact individuals listed in section II.C.; Attention: Docket ID Number (provide number). You may claim information that you submit to EPA as CBI by marking any part or all of that information as CBI. If you submit CBI on disk or CD ROM, mark the outside of the disk or CD ROM as CBI, and then identify within the disk or CD ROM the specific information that is CBI. Information so marked will not be disclosed except in accordance with procedures set forth in 40 CFR part 2.

In addition to one complete version of the comment that includes any information claimed as CBI, a copy of the comment that does not contain the information claimed as CBI must be submitted for inclusion in the public docket and EPA's electronic public docket. If you submit the copy that does not contain CBI on disk or CD ROM, mark the outside of the disk or CD ROM clearly that it does not contain CBI. Information not marked as CBI will be included in the public docket and EPA's electronic public docket without prior notice. If you have any questions about CBI or the procedures for claiming CBI, please consult the person identified under the section titled FOR FURTHER INFORMATION CONTACT.

D. What Should I Consider as I Prepare My Comments for EPA?

You may find the following suggestions helpful for preparing your comments:

(1) Explain your views as clearly as possible.

(2) Describe any assumptions that you used.

(3) Provide any technical information and/or data you used that support your views.

(4) If you estimate potential burden or costs, explain how you arrived at your estimate.

(5) Provide specific examples to illustrate your concerns.

(6) Offer alternatives.

(7) Make sure to submit your comments by the comment period deadline identified.

(8) To ensure proper receipt by EPA, identify the appropriate docket identification number in the subject line on the first page of your response. It would also be helpful if you provided the name, date, and Federal Register citation related to your comments.

E. In What Information Is EPA Particularly Interested?

Pursuant to section 3506(c)(2)(A) of the PRA, EPA specifically solicits comments and information to enable it to:

(1) Evaluate whether the proposed collections of information are necessary for the proper performance of the functions of the Agency, including whether the information will have practical utility;

(2) Evaluate the accuracy of the Agency's estimates of the burdens of the proposed collections of information;

(3) Enhance the quality, utility, and clarity of the information to be collected;

(4) Minimize the burden of the collections of information on those who are to respond, including through the use of appropriate automated or electronic collection technologies or other forms of information technology, e.g., permitting electronic submission of responses.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

II. ICRs To Be Renewed

A. For All ICRs

An Agency may not conduct or sponsor, and a person is not required to respond to, a collection of information unless it displays a currently valid OMB control number. The OMB control numbers for EPA's standards are displayed in 40 CFR Part 9.

These information collection requirements are mandatory. Furthermore, the records required by New Source Performance Standards (NSPS) must be retained by the owner or operator for at least two years and records required by the National Emission Standards for Hazardous Air Pollutants (NESHAP) must be retained by the owner or operator for at least five years. In general, the required information consists of emissions data and other information deemed not to be private.

In the absence of such information collection requirements, enforcement personnel would be unable to determine whether the standards are being met on a continuous basis, as required by the Clean Air Act.

The Agency computed the burden for each of the recordkeeping and reporting requirements applicable to the industry for the currently approved Information Collection Requests (ICRs) listed in this notice. Where applicable, the Agency identified specific tasks and made assumptions, while being consistent with the concept of the Paperwork Reduction Act.

B. List of ICRs Planned To Be Submitted

In compliance with the Paperwork Reduction Act (44 U.S.C. 3501 et seq.), this notice announces that EPA is planning to submit the following eighteen Information Collection Requests (ICR) to the Office of Management and Budget (OMB):

(1) NSPS for Incinerators (40 CFR part 50, subpart E), Docket ID Number OECA-2004-0009; EPA Preliminary ICR Number 1058.08; OMB Control Number 2060-0040; expiration date October 31, 2004.

(2) NSPS for Small Industrial-Commercial-Industrial Steam Generating Units (40 CFR part 60, subpart Dc), Docket ID Number OECA-2004-0010; EPA Preliminary ICR Number 1564.06; OMB Control Number 2060-0202; expiration date October 31, 2004.

(3) NSPS for Rubber Tire Manufacturing (40 CFR part 60, subpart BBB); Docket ID Number OECA-2004-0014; EPA ICR Number 1158.08; OMB Control Number 2060-0156; expiration date is October 31, 2004.

(4) NSPS for the Graphic Arts Industry (40 CFR part 60, subpart QQ), Docket ID Number OECA-2004-0012; EPA Preliminary ICR Number 0657.08; OMB Control Number 2060-0105; expiration date October 31, 2004.

(5) NSPS for Onshore Natural Gas Processing Plants (40 CFR part 60, subparts KKK and LLL); Docket ID Number OECA-2004-0005; EPA Preliminary ICR Number 1086.07; OMB Control Number 2060-0120; expiration date October 31, 2004.

(6) NSPS for Phosphate Rock Plants (40 CFR Part 60, Subpart NN); Docket ID Number OECA-2004-0021; EPA Preliminary ICR Number 1078.07; OMB Control Number 2060-0111; expiration date October 31, 2004.

(7) NESHAP for Pesticide Active Ingredient Production (40 CFR part 63, subpart MMM), Docket ID Number OECA-2004-0007; EPA Preliminary ICR Number 1807.03; OMB Control Number 2060-0370; expiration date October 31, 2004.

(8) NSPS for Hospital/Medical/Infectious Waste Incinerators (40 CFR part 60, subpart Ec), Docket ID Number OECA-2004-0015; EPA Preliminary ICR Number 1730.04; OMB Control Number 2060-0363; expiration date November 30, 2004.

(9) NESHAP for Vinyl Chloride (40 CFR part 61, subpart F), Docket ID Number OECA-2004-0011; EPA Preliminary ICR Number 0186.10; OMB Control Number 2060-0071; expiration date November 30, 2004.

(10) NSPS for Portland Cement Plants (40 CFR part 60, subpart F); Docket ID Number OECA-2004-0022; EPA Preliminary ICR Number 1051.09; OMB Control Number 2060-0025; expiration date November 30, 2004.

(11) NSPS for Asphalt Processing and Roofing Manufacture (40 CFR part 60, subpart UU); Docket ID Number OECA-2004-0013; EPA Preliminary ICR Number 0661.08; OMB Control Number 2060-0002; expiration date November 30, 2004.

(12) NESHAP for Pulp and Paper Production (40 CFR part 63, subpart S); Docket ID Number OECA-2004-0019; EPA Preliminary ICR Number 1657.05; OMB Control Number 2060-0387; expiration date November 30, 2004.

(13) NESHAP for Beryllium Rocket Motor Fuel Firing (40 CFR part 61, subpart D); Docket ID Number OECA-2004-0006; EPA Preliminary ICR Number 1125.04; OMB Control Number 2060-0394; expiration date November 30, 2004.

(14) NESHAP for Petroleum Refineries (40 CFR part 63, subpart CC); Docket ID Number OECA; EPA ICR Number 1692.05, OMB Control Number 2060-0340; expiration date is December 31, 2004.

(15) NESHAP for Chemical Recovery Combustion Sources at Kraft, Soda, Sulfite, and Stand-Alone Semichemical Pulp Mills (40 CFR part 63, subpart MM); Docket ID Number OECA-2004-0020; EPA Preliminary ICR Number 1805.04; OMB Control Number 2060-0377; expiration date December 31, 2004.

(16) NESHAP for Ferroalloys Production: Ferromaganese and Silconmaganese (40 CFR part 63, subpart XXX); Docket ID Number OECA-2004-0004; EPA ICR Number 1831.03; OMB Control Number 2060-0391; expiration date is December 31, 2004.

(17) NSPS for Polymeric Coating of Supporting Substrates Facilities (40 CFR part 60, subpart VVV); Docket ID Number OECA-2004-0018; EPA Preliminary ICR Number 1284.07; OMB Control Number 2060-0181; expiration date January 31, 2005.

(18) NESHAP for Solvent Extraction for Vegetable Oil Production (40 CFR part 63, Subpart GGGG), Docket ID Number OECA-2004-0008; EPA Preliminary ICR Number 1947.03; OMB Control Number 2060-0471; expiration date January 31, 2005.

C. Contact Individuals for ICRs

(1) NSPS for Incinerators (40 CFR part 50, subpart E); Learia Williams of the Office of Compliance at (202) 564-4113 or via e-mail at williams.learia@epa.gov; EPA ICR Number 1058.08; OMB Control Number 2060-0040; expiration date October 31, 2004.

(2) NSPS for Small Industrial-Commercial-Industrial Steam Generating Units (40 CFR part 60, subpart Dc); Dan Chadwick of the Office of Compliance at (202) 564-7054, or via e-mail at chadwick.dan@epa.gov; EPA ICR Number 1564.06; OMB Control Number 2060-0202; expiration date October 31, 2004.

(3) NSPS for Rubber Tire Manufacturing (40 CFR part 60, subpart BBB); María Malavé of the Office of Compliance at (202) 564-7027 or via e-mail at malave.maria@epa.gov; EPA ICR Number 1158.08; OMB Control Number 2060-0156; expiration date is October 31, 2004.

(4) NSPS for the Graphic Arts Industry (40 CFR part 60, subpart QQ); Learia Williams of the Office of Compliance at (202) 564-4113 or via e-mail at williams.learia@epa.gov; EPA ICR Number 0657.08; OMB Control Number 2060-0105; expiration date October 31, 2004.

(5) NSPS for Onshore Natural Gas Processing Plants (40 CFR part 60, subparts KKK and LLL); Dan Chadwick of the Office of Compliance at (202) 564-7054, or via e-mail at chadwick.dan@epa.gov; EPA ICR Number 1086.07; OMB Control Number 2060-0120; expiration date October 31, 2004.

(6) NSPS for Phosphate Rock Plants (40 CFR part 60, subpart NN); Gregory Fried of the Office of Compliance at (202) 564-7016 or via e-mail at fried.gregory@epa.gov; EPA ICR Number 1078.07; OMB Control Number 2060-0111; expiration date October 31, 2004.

(7) NESHAP for Pesticide Active Ingredient Production (40 CFR part 63, subpart MMM); Learia Williams of the Office of Compliance at (202) 564-4113 or via e-mail at williams.learia@epa.gov; EPA ICR Number 1807.03; OMB Control Number 2060-0370; expiration date October 31, 2004.

(8) NSPS for Hospital/Medical/Infectious Waste Incinerators (40 CFR part 60, subpart Ec); Learia Williams of the Office of Compliance at (202) 564-4113 or via e-mail at williams.learia@epa.gov; EPA ICR Number 1730.04; OMB Control Number 2060-0363; expiration date November 30, 2004.

(9) NESHAP for Vinyl Chloride (40 CFR part 61, subpart F); Learia Williams of the Office of Compliance at (202) 564-4113 or via e-mail at williams.learia@epa.gov; EPA ICR Number 0186.10; OMB Control Number 2060-0071; expiration date November 30, 2004.

(10) NSPS for Portland Cement Plants (40 CFR part 60, subpart F); Gregory Fried of the Office of Compliance at (202) 564-7016 or via e-mail at fried.gregory@epa.gov; EPA ICR Number 1051.09; OMB Control Number 2060-0025; expiration date November 30, 2004.

(11) NSPS for Asphalt Processing and Roofing (40 CFR part 60, subpart UU); Gregory Fried of the Office of Compliance at (202) 564-7016 or via e-mail at fried.gregory@epa.gov; EPA ICR Number 0661.08; OMB Control Number 2060-0002; expiration date November 30, 2004.

(12) NESHAP for Pulp and Paper Production (40 CFR part 63, subpart S); Leonard Lazarus of the Office of Compliance at (202) 564-6369 or via e-mail at lazarus.leonard@epa.gov; EPA Preliminary ICR Number 1657.05; OMB Control Number 2060-0387; expiration date November 30, 2004.

(13) NESHAP for Beryllium Rocket Motor Fuel Firing (40 CFR part 61, subpart D); Dan Chadwick of the Office of Compliance at (202) 564-7054, or via e-mail at chadwick.dan@epa.gov; EPA Preliminary ICR Number 1125.04; OMB Control Number 2060-0394; expiration date November 30, 2004.

(14) NESHAP for Petroleum Refineries (40 CFR part 63, subpart CC); Docket ID Number OECA-2003-0016; Dan Chadwick of the Office of Compliance at (202) 564-7054, or via e-mail at chadwick.dan@epa.gov; EPA ICR Number 1692.05; OMB Control Number 2060-0340; expiration date is December 31, 2004.

(15) NESHAP for Chemical Recovery Combustion Sources at Kraft, Soda, Sulfite, and Stand-Alone Semichemical Pulp Mills (40 CFR part 63, subpart MM); Leonard Lazarus of the Office of Compliance at (202) 564-6369 or via e-mail at lazarus.leonard@epa.gov; EPA Preliminary ICR Number 1805.04; OMB Control Number 2060-0377; expiration date December 31, 2004.

(16) NESHAP for Ferroalloys Production: Ferromaganese and Silconmaganese (40 CFR part 63, subpart XXX); Maria Malavé of the Office of Compliance at (202) 564-7027 or via e-mail at malave.maria@epa.gov; EPA ICR Number 1831.03; OMB Control Number 2060-0391; expiration date is December 31, 2004.

(17) NSPS for Polymeric Coating of Supporting Substrates Facilities (40 CFR part 60, subpart VVV); Leonard Lazarus of the Office of Compliance at (202) 564-6369 or via e-mail at lazarus.leonard@epa.gov; EPA Preliminary ICR Number 1284.07; OMB Control Number 2060-0181; expiration date January 31, 2005.

(18) NESHAP for Solvent Extraction for Vegetable Oil Production (40 CFR part 63, subpart GGGG); Learia Williams of the Office of Compliance at (202) 564-4113 or via e-mail at williams.learia@epa.gov; EPA ICR Number 1947.03; OMB Control Number 2060-0471; expiration date January 31, 2005.

D. Information for Individual ICRs

(1) NSPS for Incinerators (40 CFR part 60, subpart E); EPA Preliminary ICR Number 1058.08; OMB Control Number 2060-0040; expiration date October 31, 2004.

Affected Entities: Sources potentially affected by this action are incinerators that charge more than 45 megagrams per day (50 tons per day) of solid waste.

Abstract: The New Source Performance Standard (NSPS) for incinerators was promulgated on December 23, 1971.

The affected sources are subject to the General Provisions of the NSPS at 40 CFR part 60, subpart A and any changes or additions to the General Provisions specified at 40 CFR part 60, subpart E. Owners/operators of the affected sources described must make one-time-only notifications including: (1) Notification of any physical or operational change to an existing facility which may increase the regulated pollutant emission rate; (2) notification of the initial performance test, including information necessary to determine the conditions of the performance test; and (3) performance test measurements and results. Owners or operators are also required to maintain records of the occurrence and duration of any startup, shutdown, or malfunction in the operation of an affected facility, or any period during which the monitoring system is inoperative. Monitoring requirements specific to the standard provide information on daily charging rates and hours of operation.

Burden Statement: In the previously approved ICR, the estimated number of respondents for this information collection was 96 with 96 responses per year. The annual industry reporting and recordkeeping burden for this collection of information was 8,544 hours. On average, each respondent reported one time per year, and 89 hours were spent preparing each response. The total annualized costs associated with the continuous monitoring equipment in the previous ICR were $240,000. There were no capital/startup costs. However, there were operation and maintenance costs in the previous ICR of $240,000.

(2) NSPS for Small Industrial-Commercial-Industrial Steam Generating Units (40 CFR part 60, subpart Dc); EPA Preliminary ICR Number 1564.06; OMB Control Number 2060-0202; expiration date October 31, 2004.

Affected Entities: Sources potentially affected by this action are small industrial-commercial-institutional steam generating units having a maximum design heat input capacity of less than 29 megawatt (MW) (100 million Btu/hr), but greater than or equal to 2.9 MW (10 million Btu/hr).

Abstract: The New Source Performance Standard (NSPS) for small industrial-commercial-institutional steam generation units was promulgated on September 12, 1990.

The affected sources are subject to the General Provisions of the NSPS at 40 CFR part 60, subpart A and any changes or additions to the General Provisions specified at 40 CFR part 60, subpart Dc. Owners/operators must make one-time-only notifications of construction, reconstruction, or startup, the initial performance test, and physical or operational changes. They must also demonstrate a continuous monitoring system that meets the requirements of the standard, and submit reports on the performance test results, monitoring results and excess emissions.

Burden Statement: In the previously approved ICR, the estimated number of respondents for this information collection was 708 with 1,696 responses per year. The annual industry reporting and recordkeeping burden for this collection of information was 432,767 hours. On average, each respondent reported 2.4 times per year, and 255 hours were spent preparing each response. The total annualized cost for this ICR is $13,185,000 which is comprised of capital/startup costs of $8,400,000 and operation and maintenance costs of $4,785,000.

(3) NSPS for Rubber Tire Manufacturing (40 CFR part 60, subpart BBB); EPA ICR Number 1158.08; OMB Control Number 2060-0156; expiration date is October 31, 2004.

Affected Entities: Sources potentially affected by this action are rubber tire manufacturing plants.

Abstract: The New Source Performance Standard (NSPS) for rubber tire manufacturing at 40 CFR part 60, subpart BBB was promulgated on September 15, 1987, and revised most recently on September 19, 1989.

The affected sources are subject to the General Provisions of the NSPS at 40 CFR part 60, subpart A and any changes or additions to the General Provisions specified at 40 CFR part 60, subpart BBB. The standards require the submission of notifications when conducting performance tests and during periods of excess emissions. Owners/operators are also required to maintain records of the occurrence and duration of any startup, shutdown, or malfunction, or any period during which the monitoring system is inoperative. Additional monitoring requirements specific to rubber tire manufacturing plants provide information on the operation of the emissions control device and compliance with the volatile organic compounds emission limitation. Semiannual reports are also required.

Burden Statement: In the previously approved ICR, the estimated number of respondents for this information collection was 43 with 79 responses per year. The annual industry reporting and recordkeeping burden for this collection of information was 13,151 hours. On average, each respondent reported 1.8 times per year and 167 hours were spent preparing each response. There were no capital/startup costs since no new sources were expected over the three-year period of the ICR. The total annual operations and maintenance (O&M) cost for this ICR is estimated to be $17,200 dollars. This estimate was based on the assumption that 10 percent of the existing plants have a temperature monitor with a continuous recorder per combustion control device for volatile organic compound (VOC) emission reduction (e.g., an incinerator).

(4) NSPS for the Graphic Arts Industry (40 CFR part 60, subpart QQ); EPA Preliminary ICR Number 0657.08; OMB Control Number 2060-0105; expiration date October 31, 2004.

Affected Entities: Sources potentially affected by this action are publication rotogravure printing presses.

Abstract: The New Source Performance Standard (NSPS) for the graphic arts industry was promulgated on November 8, 1982.

The affect sources are subject to the General Provisions of the NSPS at 40 CFR part 60, subpart A and any changes, or additions to the General Provisions specified at 40 CFR part 60, subpart QQ. The General Provisions are comprised of notification, reporting, and recordkeeping requirements including a one-time-only notifications of the startup date, a report on the initial performance test, semiannual reports and reports of excess emissions. In addition, certain weekly and monthly records are needed for this industry in order to ensure continuous compliance.

Burden Statement: In the previously approved ICR, the estimated number of respondents for this information collection was 31 with 60 responses per year. The annual industry reporting and recordkeeping burden for this collection of information was 3,871 hours. On average, each respondent reported twice per year and 65 hours were spent preparing each response.There were no capital/startup costs or operation and maintenance costs associated with the previous ICR.

(5) NSPS for Onshore Natural Gas Processing Plants (40 CFR part 60, subparts KKK and LLL), EPA ICR Number 1086.07; OMB Control Number 2060-0120; expiration date October 31, 2004.

Affected Entities: Sources potentially affected by this action are onshore natural gas processing plants.

Abstract: The New Source Performance Standards (NSPS) for onshore natural gas processing plants were promulgated on June 24, 1985 (subpart KKK) and October 1, 1985 (subpart LLL).

The affected sources are subject to the General Provisions of the NSPS at 40 CFR part 60, subpart A and any changes, or additions to the General Provisions specified at 40 CFR part 60, subparts KKK and LLL. The standards require performance tests, notifications, reports, recordkeeping, and monitoring of emissions. The standards also require that the owners/operators of onshore natural gas processing plants must notify EPA of construction, modification, startup, shutdowns, malfunctions, and the results of the initial performance test.

Owners/operators of onshore natural gas processing plants that are potential volatile organic compound emitters must also keep records of leaks from pressure relief devices, the date of leak detection, repair method used, and other pertinent details.

Burden Statement: In the previously approved ICR, the estimated number of respondents for this information collection was 558 with 1,116 responses per year. The annual industry reporting and recordkeeping burden for this collection of information was 114,036 hours. On average, each respondent reported two times per year, and 102 hours were spent preparing each response. There were no annualized capital/startup costs in the previous ICR, and the total operation and maintenance costs associated with continuous emission monitoring were estimated to be $74,000 per year.

(6) NSPS for Phosphate Rock Plants (40 CFR part 60, subpart NN); EPA ICR Number 1078.07; OMB Control Number 2060-0111; expiration date October 31, 2004.

Affected Entities: Entities potentially affected by this action are phosphate rock plants.

Abstract: The New Source Performance Standards (NSPS) for phosphate rock plants were promulgated on April 16, 1982.

The affected entities are subject to the General Provisions of the NSPS at 40 CFR part 60, subpart A and any changes or additions to the General Provisions specified at 40 CFR part 60, subpart NN. Owners/operators of the affected sources described must make the following one-time-only reports: Notification of the date of construction or reconstruction; notification of the actual dates of startup; notification of any physical or operational change to an existing facility which may increase the regulated pollutant emission rate; notification of demonstration of the continuous monitoring system (CMS); notification of the date of the initial performance test; and the results of the initial performance test.

Owners or operators are also required to maintain records of the occurrence and duration of any startup, shutdown, or malfunction in the operation of an affected facility, or any period during which the monitoring is inoperative.

Burden Statement: In the previously approved ICR, the estimated number of respondents for this information collection was 31. In addition, it is estimated that each respondent will submit one response per year for a total of 31 responses. The annual industry reporting and recordkeeping burden in the previous ICR was 3,002 hours or approximately 97 hours per response. The annualized capital/startup costs for installation of compliance monitors is estimated to be $74,000 based on two new plants per year at $37,000 per plant. The annualized operation and maintenance costs for the monitoring systems is estimated to be $253,000. Therefore, the total annualized cost on the industry is estimated to be $327,000.

(7) NESHAP for Pesticide Active Ingredient Production (40 CFR part 63, subpart MMM); EPA Preliminary ICR Number 1807.03; OMB Control Number 2060-0370; expiration date October 31, 2004.

Affected Entities: Sources potentially affected by this action are pesticide active ingredient manufacturing processing units.

Abstract: The National Emission Standards for Hazardous Air Pollutants for pesticide active ingredient production were promulgated on June 23, 1999.

The affected sources are subject to the General Provisions of the NESHAP at 40 CFR part 63, subpart A and any changes or additions to the General Provisions specified at 40 CFR part 63, subpart MMM. These reporting requirements include: A notification by the source (i.e., self-reporting) that the facility is subject to the rule; a notification of emission testing (control device performance test and continuous monitoring system (CMS) performance evaluation); submission of the results of performance testing and CMS performance evaluations; startup, shutdown, and malfunction reports; semiannual/quarterly reports; and CMS performance reports. In addition to the requirements of subpart A, respondents are required to submit a precompliance plan, and plants that wish to implement the emission averaging provisions in the standard must submit an emissions averaging plan.

Respondents electing to comply with the emission limit or emission reduction requirements for process vents, storage tanks, or wastewater must also record certain equipment operating parameters. If the owner/operator identifies any deviation resulting from a known cause for which no exemption from an emission limitation or standard applies, the compliance report will also include all records that the affected source is required to maintain that pertain to the periods during which such deviation occurred, as well as the following: The magnitude of each deviation; the reason for each deviation; a description of the corrective action taken for each deviation, including action taken to minimize each deviation and action taken to prevent recurrence; and a copy of all quality assurance activities performed on any element of the monitoring protocol.

Since many of the facilities potentially affected by the NESHAP standard are also subject to a similar new source performance standard (NSPS), the standard includes an exemption from the NSPS for such sources. The exemption eliminates a duplication of information collection requirements.

Burden Statement: In the previously approved ICR, the estimated number of respondents for this information collection was 84 with 375 responses per year. The annual industry reporting and recordkeeping burden for this collection of information was 53,752 hours. On average, each respondent reported 4.5 times per year, and 143 hours were spent preparing each response. The total annualized costs of this ICR are estimated to be $2,268,000 of which the capital/startup costs are $2,210,000, and the operation and maintenance costs are $58,000.

(8) NSPS for Hospital/Medical/Infectious Waste Incinerators (40 CFR part 60, subpart Ec); EPA Preliminary ICR Number 1730.04; OMB Control Number 2060-0363; expiration date November 30, 2004.

Affected Entities: Sources potentially affected by this action are hospital/medical/infectious waste incinerators.

Abstract: The New Source Performance Standards (NSPS) for Hospital/Medical/Infectious Waste Incinerators (HMIWI), 40 CFR part 60, subpart Ec were promulgated on September 15, 1997.The standards apply to HMIWIs for which construction commenced after June 20, 1996 or for which modification commenced after the date of promulgation.

The source are subject to the General Provisions of the NSPS at 40 CFR part 60, subpart A and any changes or additions to the General Provisions specified at 40 CFR part 60, subpart Ec. As such, the reporting and recordkeeping requirements differ somewhat for incinerators burning hospital waste or medical/infectious waste and for co-fired combustors incinerators burning only pathological, low-level radioactive, and/or chemotherapeutic waste. Notification reports are required for all sources constructing, reconstructing, or modifying an HMIWI. Also, required are one-time-only reports related to initial performance tests and continuous measurements of site-specific operating parameters. Annual compliance reports are required for site-specific operating parameters, including exceedance of applicable limits. Semiannual reports are also required.

Co-fired combustors and incinerators burning only pathological, low-level radioactive, and/or chemotherapeutic waste are required to submit notification of any exemption claim, and an estimate of the relative amounts of waste and fuels to be combusted. These co-fired combustors and incinerators are also required to maintain records on a calendar quarter basis of the weight of hospital waste combusted, the weight of medical/infectious waste combusted, and the weight of fuels combusted.

Owners/operators are required to maintain records of the occurrence and duration of any startup, shutdown, or malfunction, or any period during which the monitoring system is inoperative. These notifications, reports, and records are essential in determining compliance and are required of all sources subject to NSPS.

Burden Statement: In the previously approved ICR, the estimated number of respondents was six with 2,349 responses per year. The annual industry reporting and recordkeeping burden for this collection of information was 4,541 hours. On average, each respondent reported 391.5 times per year,and 1.9 hours were spent preparing each response. The total annualized costs for this ICR are estimated to be $19,000 which is comprised of capital/startup costs of $2,000 and operation and maintenance costs of $17,000.

(9) NESHAP for Vinyl Chloride (40 CFR part 61, subpart F); EPA Preliminary ICR Number 0186.10; OMB Control Number 2060-0071; expiration date November 30, 2004.

Affected Entities: Sources potentially affected by this action are ethylene dichloride plants, vinyl chloride monomer plants, and polyvinyl chloride plants.

Abstract: The National Emissions Standard for Hazardous Air Pollutants (NESHAP) from Vinyl Chloride (VC) was promulgated on October 21, 1976, and amended on June 7, 1977, September 30, 1986, September 23, 1988 and December 23, 1992.

The affected sources are subject to the General Provisions of the NESHAP at 40 CFR part 61, subpart A and any changes, or additions to the General Provisions specified at 40 CFR part 63, subpart F. The standard applies to exhaust gases and oxychlorination vents at ethylene dichloride plants; exhaust gases at vinyl chloride monomer plants; and exhaust gases, reactors opening losses, manual vent valves, and stripping residuals at polyvinyl chloride plants. The standards also apply to relief valves and fugitive emission sources at all three types of plants.

In order to ensure compliance with the standard, the owner/operator must make the following one-time-only reports; application for approval of construction or modification; notification of startup; application of a waiver of testing (if desired by source); and an initial compliance report. The initial compliance report includes a list of the control equipment installed, a description of the physical and functional characteristics of each piece of equipment, a description of the methods which have been incorporated into the standard operation procedures at the source to measure and calculate emissions, and a statement that the equipment and procedures are in-place and are being used. Initial reports also include an application for approval of construction or modification, and notification of startup. The standards require quarterly reporting of vinyl chloride emissions from stripping, reactor openings, and exhausts. Reports must be submitted within 10 days of each valve discharge and manual vent valve discharge. Semiannual and excess emission reports are also required.

Burden Statement: In the previously approved ICR, the estimated number of respondents for this information collection was 44 with 308 responses per year. The annual industry reporting and recordkeeping burden for this collection of information was 16,159 hours. On average, each respondent reported seven times per year, and 52 hours were spent preparing each response. The total annualized cost of this ICR is estimated to be $1,980,000. In the previous ICR, there were no capital/startup costs and the annualized operation and maintenance costs were $1,980,000.

(10) NSPS for Portland Cement Plants (40 CFR part 60, subpart F); EPA ICR Number 1051.09; OMB Control Number 2060-0025; expiration date November 30, 2004.

Affected Entities: Entities potentially affected by this action are portland cement plants.

Abstract: The New Source Performance Standards (NSPS) for portland cement plants were promulgated on July 25, 1977.

The affected entities are subject to the General Provisions of the NSPS at 40 CFR part 60, subpart A and any changes or additions to the General Provisions specified at 40 CFR part 60, subpart F. Owners/operators of portland cement plants must notify EPA of construction, modification, startups, shut downs, date and results of initial performance test and excess emissions.

Burden Statement: In the previously approved ICR, the estimated number of respondents for this information collection was 113. In addition, it is estimated that each existing respondent will submit approximately four responses per year, or a total of 448 responses per year. The annual industry reporting and recordkeeping burden in the previous ICR was 7,968 hours or approximately 18 hours per response. The capital/startup for installation of continuous monitoring systems was estimated to be $139,200 based on four new plants per year at $34,800 per plant. The operation and maintenance costs for the monitoring systems was estimated at $848,000. Therefore, the total annualized cost to the industry in the previous ICR was $987,200.

(11) NSPS for Asphalt Processing and Roofing (40 CFR part 60, subpart UU); EPA ICR Number 0661.08; OMB Control Number 2060-0002; expiration date November 30, 2004.

Affected Entities: Entities potentially affected by this action are asphalt storage facilities, asphalt processing plants and petroleum refineries.

Abstract: The New Source Performance Standards (NSPS) for asphalt processing and roofing were promulgated on August 6, 1982.

The affected sources are subject to the General Provisions of the NSPS at 40 CFR part 60, subpart A and any changes or additions to the General Provisions specified at 40 CFR part 60, subpart UU. Owners/operators of the regulated sources must notify EPA of construction, modification, startups, shut downs, date and results of initial performance test. Excess emission reports are also required.

Burden Statement: In the previously approved ICR, the estimated number of respondents for this information collection was 83 with ten responses per year. The annual industry reporting and recordkeeping burden for this collection of information was 15,089 hours or approximately 1,509 hours per response. The total annualized capital/startup for installation of temperature monitors is estimated to be approximately $200,000 based on two new plants annually at $100,000 per plant. The total annualized operation and maintenance costs for the monitoring systems is estimated at $2,905,000. Therefore, the total annualized cost to the industry is estimated to be $3,105,000.

(12) NESHAP for Pulp and Paper Production (40 CFR part 63, subpart S); EPA Preliminary ICR Number 1657.05; OMB Control Number 2060-0387; expiration date November 31, 2004.

Affected Entities: Sources potentially affected by this action are pulp and paper mills.

Abstract: The National Emission Standards for Hazardous Air Pollutants (NESHAP) for pulp and paper production was promulgated on April 15, 1998.

The affected sources are subject to the General Provisions of the NESHAP at 40 CFR part 63, subpart A and any changes or additions to the General Provisions specified at 40 CFR part 63, subpart S.

Pulp mill owners/operators are required to submit initial notifications, maintain records of the occurrence and duration of any startup, shutdown, or malfunction in the operation of an affected source, or any period during which the emission monitoring system is inoperative. Respondents are required to monitor and keep records of specific operating parameters for each control device and to perform and document periodic inspections of the closed vent and wastewater conveyance systems. All respondents must submit semiannual reports of the monitored parameters, and they must submit an additional monitoring report during each quarter in which monitored parameters were outside the ranges established in the standard or during initial performance tests.

Burden Statement: In the previously approved ICR, the estimated number of respondents for this information collection was 162 with 500 responses per year. The annual industry reporting and recordkeeping burden for this collection of information was 50,232 hours. On average, each respondent reported three times per year, and 100 hours were spent preparing each response. The annual reporting and recordkeeping cost burden was estimated to be $370,000 in the previous ICR. The capital/startup cost was $370,000 with no expected operation and maintenance cost.

(13) NESHAP for Beryllium Rocket Motor Fuel Firing (40 CFR part 61, subpart D), EPA ICR Number 1125.04; OMB Control Number 2060-0394; expiration date November 31, 2004.

Affected Entities: Sources potentially affected by this action are beryllium rocket motor testing facilities.

Abstract: The National Emission Standards for Hazardous Air Pollutants (NESHAP) for beryllium rocket motor firing were promulgated on April 6, 1973.

The affected sources are subject to the General Provisions of the NESHAP at 40 CFR part 61, subpart A and any changes or additions to the General Provisions specified at 40 CFR part 63, subpart D. The standard requires source to test the ambient air for beryllium during and after firing of a rocket motor. Sampling techniques are approved by the Administrator. Samples are analyzed within 30 days and results are reported to the EPA Region by registered letter by the business day following the compliance determination (see 40 CFR 61.43). In addition, stack sampling required at 40 CFR 61.41, requires continuous sampling of beryllium combustion products, analysis and reporting within 30 days. The results are reported to EPA the day following the compliance determination.

Burden Statement: In the previously approved ICR, the estimated number of respondents for this information collection was 1 with ⅓ response per year (Once per test firing, one test firing in three years). The annual industry reporting and recordkeeping burden for this collection of information was eight hours. On average, each respondent reported one time every two years and 8 hours were spent preparing each response. The responses were prepared biannually. In the previously approved ICR, there were no capital/startup costs and the total operation and maintenance costs associated with continuous emission monitoring in the previous ICR were estimated to be $453 per year.

(14) NESHAP for Petroleum Refineries (40 CFR part 63, subpart CC); EPA ICR Number 1692.05; OMB Control Number 2060-0340; expiration date December 31, 2004.

Affected Entities: Sources potentially affected by this action are petroleum refineries.

Abstract: The National Emission Standards for Hazardous Air Pollutants (NESHAP) for petroleum refineries (40 CFR part 63, subpart CC) were promulgated on August 18, 1995, and technically corrected and amended several times with the most recent correction made on May 25, 2001, and the most recent revision made on August 18, 1998.

The affected sources are subject to the General Provisions of the NESHAP at 40 CFR part 63, subpart A and any changes or additions to the General Provisions specified at 40 CFR part 63, subpart CC. This standard requires sources to comply with the recordkeeping and reporting requirements contained in either 40 CFR part 61 subpart VV or 40 CFR part 63, subpart H for equipment leaks (which include an initial report and semiannual summaries of leak detection and repair) and 40 CFR part 61, subpart FF or 40 CFR part 63, subpart H for wastewater operations.

This rule also requires sources to submit initial notifications, conduct performance tests, and submit periodic reports. In addition, sources are required to: Maintain records of the occurrence and duration of any startup, shutdown, or malfunction in the operation of an affected facility; any period during which the monitoring system is inoperative; bag leak detection system alarms and corrective actions; parametric monitoring data; and system maintenance and calibration data.

Burden Statement: In the previously approved ICR, the estimated number of respondents for this information collection was 157 with 314 responses per year. The annual industry reporting and recordkeeping burden for this collection of information was 469,430 hours. On the average each respondent reported twice per year and 1,495 hours were spent preparing each response. The annualized capital/startup costs for this ICR was estimated to be $542,173. This estimate was based on the assumptions that all refineries (“respondents”) will hire a contractor to provide sampling and analytical services during the initial performance tests. There are no operation and maintenance costs since this rule does not require any additional monitoring equipment and any related costs are assumed to be negligible.

(15) NESHAP for Chemical Recovery Combustion Sources at Kraft, Soda, Sulfite, and Stand-Alone Semichemical Pulp Mills (40 CFR part 63, subpart MM); EPA Preliminary ICR Number 1805.04; OMB Control Number 2060-0377; expiration date December 31, 2004.

Affected Entities: Sources potentially affected by this action are owners and operators of chemical recovery combustion sources at kraft, soda, sulfite, and stand-alone semichemical pulp mills.

Abstract: The National Emission Standards for Hazardous Air Pollutants (NESHAP) for chemical recovery combustion sources at kraft, soda, sulfite, and stand-alone semichemical pulp mills at 40 CFR part 63, subpart MM were promulgated on January 12, 2001.

The subject sources are subject to the General Provisions of the NESHAP at 40 CFR part 63, subpart A and any changes or additions to the General Provisions specified at 40 CFR part 63, subpart MM. These requirements include initial notifications; notifications of performance tests; notifications of performance evaluations; notifications of compliance status, including the results of performance tests; startup, shutdown, and malfunction reports; and semiannual compliance reports.

Burden Statement: In the previously approved ICR, the estimated number of respondents for this information collection was 136 with 125 responses per year. The annual industry reporting and recordkeeping burden for this collection of information was 21,528 hours. On average, each respondent reported 0.9 times per year, and 172 hours were spent preparing each response. The annual reporting and recordkeeping cost burden in the previous ICR was $5,000. The total annualized capital/startup costs were $2,000, and the total operation and maintenance costs were $3,000.

(16) NESHAP for Ferroalloys Production: Ferromaganese and Silconmaganese (40 CFR part 63, subpart XXX); EPA ICR Number 1831.03; OMB Control Number 2060-0391; expiration date is December 31, 2004.

Affected Entities: Sources potentially affected by this action are affected facilities at ferromanganese and silicomanganese production facilities that are major sources or are co-located at major sources.

Abstract: The National Emission Standards for Hazardous Air Pollutants (NESHAP) for ferroalloys production: ferromaganese and silconmaganese at 40 CFR part 63, subpart XXX were promulgated on May 20, 1999, and amended most recently on March 22, 2001.

The affected sources are subject to the General Provisions of the NESHAP at 40 CFR part 63, subpart A and any changes or additions to the General Provisions specified at 40 CFR part 63, subpart XXX. This rule requires sources to submit initial notifications, conduct performance tests, and submit periodic reports. In addition, sources are required to maintain records of the occurrence and duration of any startup, shutdown, or malfunction in the operation of an affected facility; any period during which the monitoring system is inoperative; bag leak detection system alarms, including corrective actions; parametric monitoring data; system maintenance and calibration; and opacity and visible emissions observations to demonstrate initial and on-going compliance with the regulation.

Burden Statement: In the previously approved ICR, the estimated number of respondents for this information collection was one with 31 responses per year. The annual industry reporting and recordkeeping burden for this collection of information was 746 hours. On average, the respondent spent 24 hours preparing each response. There were no capital/startup costs or operation and maintenance costs associated with continuous emission monitoring in the previous ICR.

(17) NSPS for Polymeric Coating of Supporting Substrates Facilities (40 CFR part 60, subpart VVV); EPA Preliminary ICR Number 1284.07; OMB Control Number 2060-0181; expiration date January 31, 2005.

Affected Entities: Sources potentially affected by this action are of polymeric coating plants.

Abstract: The New Source Performance Standard (NSPS) polymeric coating of supporting substrates facilities at 40 CFR part 60, subpart VVV were promulgated on September 15, 1987, and revised most recently on September 19, 1989.

The affected sources are subject to the General Provisions of the NSPS at 40 CFR part 60, subpart A and any changes, or additions to the General Provisions specified at 40 CFR part 60, subpart VVV. Sources must: maintain records of startups, shutdowns, malfunctions; periods where the continuous monitoring system is inoperative; all measurements including performance tests; operating parameters of monitoring device results for catalytic or thermal incinerators, carbon adsorption system, condensation system, vapor capture system and/or total enclosure; monitor the annual use of volatile organic compounds (VOC); and make semiannual estimates of projected VOC use, if affected facility uses less than 95 Mg/year of volatile organic compounds or is subject to provisions specified at § 60.742(c)(3).

Burden Statement: In the previously approved ICR, the estimated number of respondents for this information collection was 56 with 173 responses per year. The annual industry reporting and recordkeeping burden for this collection of information was 14,366 hours. On average, each respondent reported 3.1 times per year, and 83 hours were spent preparing each response. The annual reporting and recordkeeping cost burden in the previous ICR was $564,000, which was comprised of capital/startup costs of $43,000 and operation and maintenance costs of $521,000.

(18) NESHAP for Solvent Extraction for Vegetable Oil Production (40 CFR part 63, subpart GGGG); EPA Preliminary ICR Number 1947.03; OMB Control Number 2060-0471; expiration date January 31, 2005.

Affected Entities: Sources potentially affected by this action are vegetable oil production plants.

Abstract: The National Emission Standards for Hazardous Air Pollutants (NESHAP) for vegetable oil production at 40 CFR part 63, subpart GGGG for vegetable oil production were promulgated on April 12, 2001.

This standard applies to any reconstructed, or new vegetable oil production process, which is defined as a group of continuous process equipment used to remove an oil from oilseeds through direct contact with an organic solvent such as n-hexane. The term oilseed refers to the following agricultural products: corn germ, cottonseed, flax, peanut, rapeseed (for example, canola), safflower, soybean, and sunflower. A vegetable oil production process is only subject to the regulation if it is a major source of hazardous air pollutant (HAP) emissions, or is collocated with other sources that are individually or collectively a major source of HAP emissions.

The source are subject to the General Provisions of the NESHAP at 40 CFR part 63, subpart A and any changes, or additions to the General Provisions specified at 40 CFR part 63, subpart GGGG. The solvent extraction for vegetable oil production standard requires each source to develop a plan for demonstrating compliance. On a monthly basis, sources must measure/record extraction solvent, and record the HAP content of the extraction solvent and oilseed inventories. Sources also develop a startup, shutdown, and malfunction plan to be followed during noncompliance events. Each source must submit initial and startup notifications. Sources must submit a compliance status notification 12 months after the compliance date and an annual compliance certification every subsequent 12 months.

Burden Statement: In the previously approved ICR, the estimated number of respondents for this information collection was 75 with 75 responses per year. The annual industry reporting and recordkeeping burden for this collection of information was 10,092 hours. On average, each respondent reported once per year and 135 hours per spent preparing each response. There were no capital/startup costs or operation and maintenance costs associated with continuous emission monitoring in the previous ICR.

Dated: May 18, 2004.
Michael M. Stahl,
Director, Office of Compliance.

[FR Doc. 04-11777 Filed 5-24-04; 8:45 am]

BILLING CODE 6560-50-P